SURFACE TRANSPORTATION BOARD

30-Day Notice of Intent To Seek Approval of an Existing Collection in Use Without an OMB Control Number: Dispute Resolution Procedures Under the Fixing America's Surface Transportation Act of 2015

AGENCY: Surface Transportation Board.

ACTION: Notice and Request for Comments.

SUMMARY: As part of its continuing effort to reduce paperwork burdens, and as required by the Paperwork Reduction Act of 1995, 44 U.S.C. 3501-3521 (PRA), the Surface Transportation Board (STB or Board) gives notice that it is requesting from the Office of Management and Budget (OMB) approval of a new collection to implement a directive of the Fixing America's Surface Transportation Act of 2015, Public Law 114-94 (signed Dec. 4, 2015) (FAST Act). Title XI of the FAST Act, entitled “Passenger Rail Reform and Investment Act of 2015,” gives the Board jurisdiction to resolve cost allocation and access disputes between National Railroad Passenger Corporation (Amtrak), the states, and potential non-Amtrak operations of intercity passenger rail service. The FAST Act directs the Board to establish procedures for the resolution of these disputes, “which may include the provision of professional mediation services.”

The Board adopted final rules to implement these procedures in Dispute Resolution Procedures Under the Fixing America's Surface Transportation Act of 2015, EP 734 (STB served Nov. 29, 2016). Due to a technical omission in the notice of proposed rulemaking in EP 734 under the PRA, the Board is seeking OMB approval for this collection separately in this notice. The Board previously published a notice about this collection in the Federal Register. 82 FR 1421 (Jan. 5, 2017). That notice allowed for a 60-day public review and comment period. No comments were received.

DATE: Comments on this information collection should be submitted by May 1, 2017.

ADDRESSES: Written comments should be identified as “Paperwork Reduction Act Comments, Surface Transportation Board: Dispute Resolution Procedures Under the Fixing America's Surface Transportation Act of 2015.” These comments should be directed to the Office of Management and Budget, Office of Information and Regulatory Affairs, Attention: Chad Lallemand, Surface Transportation Board Desk Officer, by email at OIRA_SUBMISSION@OMB.EOP.GOV; by fax at (202) 395-6974; or by mail to Room 10235, 725 17th Street NW., Washington, DC 20503. Please also direct comments to Chris Oehrle, Surface Transportation Board, 395 E Street SW., Washington, DC 20423-0001, or to pra@stb.gov.

FOR FURTHER INFORMATION CONTACT: For further information regarding this collection, contact Michael Higgins, Deputy Director, Office of Public Assistance, Governmental Affairs, and Compliance at (202) 245-0284 or at Michael.Higgins@stb.gov. [Assistance for the hearing impaired is available through the Federal Information Relay Service (FIRS) at 1-800-877-8339.]

SUPPLEMENTARY INFORMATION: For each collection, comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility.

Description of Collection

Title: Dispute Resolution Procedures Under the Fixing America's Surface Transportation Act of 2015.

OMB Control Number: 2140-XXXX.

STB Form Number: None.

Type of Review: Existing collection in use without an OMB control number.

Respondents: Parties seeking the Board's informal assistance under the FAST Act.

Number of Respondents: Approximately three.

Estimated Time Per Response: One hour.

Frequency: On occasion.

Total Burden Hours (annually including all respondents): Three (estimated hours per response (1) × total number of responses (3)).

Total “Non-hour Burden” Cost: None identified. Filings may be submitted electronically to the Board.

Needs and Uses: Under the new 49 CFR 1109.5, parties to a dispute involving the State-Sponsored Route Committee or the Northeast Corridor Committee may, by a letter submitted to the Board's Office of Public Assistance, Governmental Affairs, and Compliance, request the Board's informal assistance in securing outside professional mediation services. The letter shall include a concise description of the issues for which outside professional mediation services are sought. The collection by the Board of these request letters enables the Board to meet its statutory duty under the FAST Act.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information.

Dated: March 27, 2017.
Jeffrey Herzig,
Clearance Clerk.

[FR Doc. 2017-06276 Filed 3-29-17; 8:45 am]

BILLING CODE 4915-01-P